DEPARTMENT OF ENERGY

Federal Energy Regulatory Commission

Notice of Staff Attendance

The Federal Energy Regulatory Commission (Commission) hereby gives notice that members of the Commission's staff may attend the following meeting related to the transmission planning activities of the South Carolina Regional Planning (SCRTP) Stakeholder Group.

South Carolina Regional Transmission Planning Meeting, December 9, 2015 (10:00 a.m.-1:00 p.m.)

The above-referenced meeting will be held at:

Hilton Garden Inn—Charleston Airport, Cypress I Room, 5265 International Blvd., North Charleston, SC 29418. (843) 308-9330

The meeting is open to the public.

For more information, contact Mike Lee, Office of Energy Market Regulation, Federal Energy Regulatory Commission at (202) 502-8658 or Michael.Lee@ferc.gov.

Dated: November 30, 2015.
Nathaniel J. Davis, Sr.,
Deputy Secretary.

[FR Doc. 2015-30701 Filed 12-4-15; 8:45 am]

BILLING CODE 6717-01-P